FEDERAL COMMUNICATIONS COMMISSION

Information Collection Being Submitted for Review and Approval to the Office of Management and Budget

AGENCY: Federal Communications Commission.

ACTION: Notice; request for comments.

SUMMARY: As part of its continuing effort to reduce paperwork burden and as required by the Paperwork Reduction Act (PRA) of 1995 (44 U.S.C. 3502-3520), the Federal Communications Commission invites the general public and other Federal agencies to take this opportunity to comment on the following information collection(s). Comments are requested concerning: whether the proposed collection of information is necessary for the proper performance of the functions of the Commission, including whether the information shall have practical utility; the accuracy of the Commission's burden estimates; ways to enhance the quality, utility, and clarity of the information collected; ways to minimize the burden of the collection of information on the respondents, including the use of automated collection techniques or other forms of information technology; and ways to further reduce the information collection burden on small business concerns with fewer than 25 employees.

The FCC may not conduct or sponsor a collection of information unless it displays a currently valid OMB control number. No person shall be subject to any penalty for failing to comply with a collection of information subject to the Paperwork Reduction Act (PRA) that does not display a valid OMB control number.

DATES: Written Paperwork Reduction Act (PRA) comments should be submitted on or before July 8, 2013. If you anticipate that you will be submitting PRA comments, but find it difficult to do so within the period of time allowed by this notice, you should advise the FCC contact listed below as soon as possible.

ADDRESSES: Submit your PRA comments to Nicholas A. Fraser, Office of Management and Budget (OMB), via fax at 202-395-5167 or via Internet at Nicholas_A._Fraser@omb.eop.gov and to Judith B. Herman, Federal Communications Commission, via the Internet at Judith-b.herman@fcc.gov. To submit your PRA comments by email send them to: PRA@fcc.gov.

FOR FURTHER INFORMATION CONTACT: Judith B. Herman, Office of Managing Director, FCC, at 202-418-0214.

SUPPLEMENTARY INFORMATION: OMB Control Number: 3060-0975.

Title: Sections 68.105 and 1.4000, Promotion of Competitive Networks in Local Telecommunications Markets Multiple Tenant Environments (MTEs).

Form Number: N/A.

Type of Review: Extension of a currently approved collection.

Respondents: Business or other for-profit entities, not-for-profit institutions, Federal Government and state, local or tribal government.

Number of Respondents: 7,367 respondents; 7,367 responses.

Estimated Time per Response: 26.3109814 hours.

Frequency of Response: On occasion reporting requirement and third party disclosure requirement.

Obligation to Respond: Required to obtain or retain benefits. Statutory authority for this information collection is contained in 47 U.S.C. sections 151 and 224 of the Communications Act of 1934, as amended.

Total Annual Burden: 193,833 hours.

Total Annual Cost: N/A.

Privacy Impact Assessment: N/A.

Nature and Extent of Confidentiality: There is no need for confidentiality.

Needs and Uses: The Commission will submit this information collection during this comment period to obtain the full, three year clearance from the Office of Management and Budget (OMB). The Commission is requesting OMB approval for an extension (no change in the reporting and/or third party disclosure requirements). The Commission is reporting a 451 hour burden decrease. This is due to adjustments over time because requests for location information would have already been made at most buildings.

This collection involves information regarding the location of the demarcation point, antennas placed on subscriber premises, and the state of the market. In an October 2001 Order (FCC 22-366), the Commission adopted the following information collection requirements:

(1) Prohibited carriers from entering into contracts that restrict or effectively restrict a property owner's ability to permit entry by competing carriers;

(2) Established procedures to facilitate moving the demarcation point to the minimum point of entry (“MPOE”) at the building owner's request, and requires incumbent local exchange carriers (LECs) to timely disclose the location of existing demarcation points where they are not located at the MPOE;

(3) Determined that, under section 224 of the Communications Act of 1934, as amended, utilities, including LECs, must afford telecommunications carriers and cable service providers reasonable and nondiscriminatory access to conduits and rights-of-way located in customer buildings and campuses, to the extent such conduits and rights-of-way are owned or controlled by the utility; and

(4) Extended to antennas that receive and transmit telecommunications and other fixed wireless signals the existing prohibition of restrictions that impair the installation, maintenance or use of certain video antennas on property within the exclusive use or control of the antenna user, where the user has a direct or indirect ownership or leasehold interest in the property.

OMB Control Number: 3060-1135.

Title: Rules Authorizing the Operation of Low Power Auxiliary Stations (including Wireless Microphones).

Form Number: N/A.

Type of Review: Extension of a currently approved collection.

Respondents: Business or other for-profit entities, not-for-profit institutions and state, local or tribal government.

Number of Respondents: 5,100 respondents; 127,500 responses.

Estimated Time per Response: .25 hours (15 minutes).

Frequency of Response: Third party disclosure requirement (disclosure and labeling requirements).

Obligation to Respond: Mandatory. Statutory authority for this information collection is contained in 47 U.S.C. sections 151, 152, 154(i), 154, 301, 302(a), 303, 304, 307, 308, 309, 316, 332, 336 and 337 of the Communications Act of 1934, as amended.

Total Annual Burden: 31,875 hours.

Total Annual Cost: $1,625,000.

Privacy Impact Assessment: N/A.

Nature and Extent of Confidentiality: There is no need for confidentiality as these are third party disclosure and labeling requirements.

Needs and Uses: The Commission will submit this information collection as an extension during this comment period to obtain the full, three year clearance from the Office of Management and Budget (OMB).

This collection has two parts. The first part requires that manufacturers, dealers, distributors, and other entities that sell or lease wireless microphones must display a disclosure at the point of sale or lease that informs consumers of the conditions that apply to the operation of wireless microphones. The second part establishes a labeling requirement for wireless microphones capable of operating in the 700 MHz band that are destined for non-U.S. markets.

OMB Control Number: 3060-1181.

Title: Study Area Boundary Data Reporting in Esri Shapefile Format, DA 12-1777 and DA 13-282.

Form Number: N/A.

Type of Review: Extension of a currently approved collection.

Respondents: Business or other for-profit entities and state, local or tribal government.

Number of Respondents: 1,443 respondents; 1,443 responses.

Estimated Time per Response: 26 hours.

Frequency of Response: On occasion and biennially reporting requirements.

Obligation to Respond: Mandatory. Statutory authority for this information collection is contained in 47 U.S.C. section 254(b) of the Communications Act of 1934, as amended.

Total Annual Burden: 7,924 hours.

Total Annual Cost: $705,935.

Privacy Impact Assessment: N/A.

Nature and Extent of Confidentiality: No questions of a confidential nature are asked.

Needs and Uses: The Commission will submit this information collection as an extension during this comment period. The Commission sought emergency OMB approval for this information collection in January 2013. Since emergency approvals are only granted for six months, we are now submitting to OMB to obtain the full, three year clearance from them.

The Commission requires all incumbent local exchange carriers (ILECs) to file shapefile maps of their service territories in a state (study area). State commissions can also submit these data voluntarily for ILECs in their state. Shapefiles are a commonly used, digitized, geographic information system (GIS) format. Accurate and accessible maps are essential to the legitimate distribution of universal service support to rural, high cost carriers. After the shapefiles are uploaded into a web interface provided by the Commission, each ILEC (or state) must certify the accuracy of its study area maps. Filers must also submit updated shapefile maps if their study area boundaries change, and must recertify the accuracy of the map every two years.

Federal Communications Commission.
Gloria J. Miles,
Federal Register Liaison, Office of the Secretary, Office of Managing Director.

[FR Doc. 2013-13594 Filed 6-6-13; 8:45 am]

BILLING CODE 6712-01-P